DEPARTMENT OF JUSTICE

Drug Enforcement Administration

[Docket No. DEA-1083]

Bulk Manufacturer of Controlled Substances Application: Chattem Chemicals, Inc.; Correction

AGENCY: Drug Enforcement Administration, Justice.

ACTION: Notice of application; correction.

SUMMARY: The Drug Enforcement Administration (DEA) published a document in the Federal Register on October 11, 2022, concerning a notice of application that inadvertently did not include the controlled substance Cocaine (9041).

SUPPLEMENTARY INFORMATION:

Correction

In the Federal Register on October 11, 2022, in FR Doc No: 2022-21940 (87 FR 61368), on page 61368, in the second column, under SUPPLEMENTARY INFORMATION, controlled substance table, correct the table to include the following basic class of scheduled controlled substance:

Controlled substance | Drug code | Schedule
Cocaine | 9041 | II

Kristi O'Malley,
Assistant Administrator.

[FR Doc. 2022-24105 Filed 11-7-22; 8:45 am]

BILLING CODE 4410-09-P